DEPARTMENT OF COMMERCE

International Trade Administration

[C-580-835]

Stainless Steel Sheet and Strip in Coils From the Republic of Korea: Extension of Preliminary Results of Countervailing Duty Administrative Review

AGENCY: Import Administration, International Trade Administration, Department of Commerce.

ACTION: Notice of extension of time limit for preliminary results of countervailing duty administrative review.

EFFECTIVE DATE: April 25, 2001.

FOR FURTHER INFORMATION CONTACT: Tipten Troidl or Darla Brown, Office of AD/CVD Enforcement VI, Group II, Import Administration, International Trade Administration, U.S. Department of Commerce, 14th Street and Constitution Ave., NW., Washington, DC 20230; telephone: 202-482-1767 or 202-482-2849, respectively.

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On October 2, 2000, the Department published a notice of initiation of administrative review of the countervailing duty order on stainless steel sheet and strip from the Republic of Korea, covering the period November 17, 1998 through December 31, 1999 (see 65 FR 58733). The preliminary results are currently due no later than May 3, 2001.

Extension of Preliminary Results of Review

We determine that it is not practicable to complete the preliminary results of this review within the original time limit. Therefore, the Department is extending the time limits for completion of the preliminary results until no later than August 31, 2001. See Decision Memorandum from Melissa G. Skinner, Office Director for AD/CVD Office VI, to Holly A. Kuga, Acting Deputy Assistant Secretary, dated concurrently with this notice, which is on public file in the Central Records Unit, Room B-099 of the Department of Commerce. We intend to issue the final results no later than 120 days after the publication of the preliminary results.

This extension is in accordance with section 751(a)(3)(A) of the Act.

Dated: April 18, 2001.
Thomas F. Futtner,
Acting Deputy Assistant Secretary for Import Administration.

[FR Doc. 01-10278 Filed 4-24-01; 8:45 am]

BILLING CODE 3510-DS-P